SMALL BUSINESS ADMINISTRATION

Small Business Size Regulations; 8(a) Business Development/Small Disadvantaged Business Status Determinations

AGENCY: U.S. Small Business Administration.

ACTION: Notice of public meetings; request for comments.

SUMMARY: The U.S. Small Business Administration (SBA) announces it is holding a series of public meetings on the topic of the proposed changes to the 8(a) Business Development (BD) Program Regulations and Small Business Size Regulations. Testimony and comments presented at the public comment meetings will become part of the administrative record as comments addressing the proposed changes to the regulations pertaining to the 8(a) BD program and small business size standards. In conjunction with the public meetings SBA is conducting tribal consultations prior to the end of the comment period for the proposed rulemaking.

DATES: See SUPPLEMENTARY INFORMATION section for meeting dates.

ADDRESSES: 1. New York, NY—Jacob Javitz Federal Bldg, 26 Federal Plaza, 6th Floor Conference Center—Room D, New York, New York 10278. (Visitors will be subject to a security screening and might be required to present valid photo identification.)

2. Seattle, Washington—South Seattle Community College's Georgetown Campus, Building C—Gene J. Colin Ed. Bldg, 6737 Corson Avenue South, Seattle, WA 98108.

3. Boston, Massachusetts—Tip O'Neil Federal Bldg, 1st Floor Auditorium, 10 Causeway Street, Boston, MA 02222. (Visitors will be subject to a security screening and might be required to present valid photo identification.)

4. Dallas, Texas—University of Texas In Arlington—Riverbend Campus, 7300 Jack Newell Blvd South, Fort Worth, Texas 76118.

5. Atlanta, Georgia—Sam Nunn Federal Center, Conference Level, 61 Forysth Street, SW., Atlanta, GA 30303. (Visitors will be subject to a security screening and might be required to present valid photo identification.)

6. Albuquerque, NM—Central New Mexico Community College, Smith Brasher Hall of, 525 Buena Vista Dr., SE., Albuquerque, NM 87106.

7. Chicago, Illinois—SBA Illinois District Office, 500 West Madison Street, Suite 1250—Conference Room A, Chicago, IL 60661. (Visitors will be subject to a security screening and might be required to present valid photo identification.)

Send all written comments to Mr. Joseph Loddo, Associate Administrator for Business Development, U.S. Small Business Administration, 409 3rd Street, SW., Washington, DC 20416.

FOR FURTHER INFORMATION CONTACT: If you have any questions on this proposed rulemaking, call or e-mail LeAnn Delaney, Deputy Associate Administrator, Office of Business Development, at (202) 205-5852, or leann.delaney@sba.gov. If you have any questions about registering or attending the public meeting please contact Ms. Latrice Andrews, SBA's Office of Business Development at (202) 205-5852, or latrice.andrews@SBA.gov, or by facsimile to (202) 481-4042.

SUPPLEMENTARY INFORMATION:

I. Background

On October 28, 2009 (74 FR 55694-01), SBA issued a Notice of Proposed Rulemaking (NPRM). In that document, SBA proposed to make a number of changes to the regulations governing the 8(a) BD Program Regulations and several changes to its Small Business Size Regulations. Some of the changes involve technical issues. Other changes are more substantive and result from SBA's experience in implementing the current regulations. In addition to written comments, SBA is requesting oral comments on the various approaches for the proposed changes.

II. Public Hearings

The public meeting format will consist of a panel of SBA representatives who will preside over the session. The oral and written testimony will become part of the administrative record for SBA's consideration. Written testimony may be submitted in lieu of oral testimony. SBA will analyze the testimony, both oral and written, along with any written comments received. SBA officials may ask questions of a presenter to clarify or further explain the testimony. The purpose of the public meetings is to allow the general public to comment on SBA's proposed rulemaking. SBA requests that the comments focus on the proposed changes as stated in the NPRM. SBA requests that commentors do not raise issues pertaining to other SBA small business programs. Presenters may provide a written copy of their testimony. SBA will accept written material that the presenter wishes to provide that further supplements his or her testimony. Electronic or digitized copies are encouraged.

SBA will hold additional public meetings before the close of the comment period for this rulemaking. In conjunction with the public meetings SBA is conducting tribal consultations prior to the end of the comment period for the proposed rulemaking. The meeting notice for these tribal consultations was published in the Federal Register on December 7, 2009 (74 FR 64026).

The public meetings will be held on the dates listed below for each location from 9 a.m. to 4 p.m. each day.

Venue Information
Location | Address | Hearing date | Registration closing date
New York, NY | Jacob Javitz Federal Bldg, 26 Federal Plaza, 6th Floor Conference Center—Room D, New York, New York 10278 * | Wednesday, December 16, 2009 | Friday, December 11, 2009.
Seattle, Washington | South Seattle Community College's Georgetown Campus, Building C—Gene J. Colin Ed. Bldg, 6737 Corson Avenue South, Seattle, WA 98108 | Thursday, December 17, 2009 | Monday, December 14, 2009.
Boston, Massachusetts | Tip O'Neil Federal Bldg, 1st Floor Auditorium, 10 Causeway Street, Boston, MA 02222 * | Friday, December 18, 2009 | Monday, December 14, 2009.
Dallas, Texas | University of Texas In Arlington—Riverbend Campus, 7300 Jack Newell Blvd South, Fort Worth, Texas 76118 | Monday, January 11, 2010 | Monday, January 4, 2010.
Atlanta, Georgia | Sam Nunn Federal Center, Conference Level, 61 Forysth Street, SW., Atlanta, GA 30303 * | Tuesday, January 12, 2010 | Monday, January 4, 2010.
Albuquerque, NM | Central New Mexico Community College, Smith Brasher Hall of, 525 Buena Vista Dr., SE., Albuquerque, NM 87106 | Friday, January 15, 2010 | Monday, January 4, 2010.
Chicago, Illinois | SBA Illinois District Office, 500 West Madison Street, Suite 1250—Conference Room A, Chicago, IL, 60661 * | Tuesday, January 19, 2010 | Monday, January 11, 2010.
* Visitors will be subject to a security screening and might be required to present valid photo identification.

Registration requests must be received on or before the respective deadline by 5 p.m., Eastern Standard Time.

III. Registration

Any individual interested in attending and making an oral presentation shall pre-register in advance with SBA. Registration requests must be received by SBA no later than 5 p.m., Eastern Standard Time. Please see registration information in this section for specific dates. Please contact Ms. Latrice Andrews of SBA's Office of Business Development in writing to register at Latrice.Andrews@sba.gov or by facsimile to (202) 481-4042. Please include the following information relating to the person testifying: Name, Organization affiliation, Address, Telephone number, E-mail address, and Fax number. SBA will attempt to accommodate all interested parties that wish to present testimony. Based on the number of registrants it may be necessary to impose time limits to ensure that everyone who wishes to testify has the opportunity to do so. SBA will send confirmation of registration in writing to the presenters and attendees.

IV. Information on Service for Individuals With Disabilities

For information on facilities or services for individuals with disabilities or to request special assistance at the public meetings, contact Ms. Latrice Andrews at the telephone number or e-mail address indicated under the FOR FURTHER INFORMATION CONTACT section of this notice.

Authority: 15 U.S.C. 632, 634(b)(6), 636(b), 637(a), 644 and 662(5); and Pub. L. 105-135, sec. 401 et seq., 111 Stat. 2592.

Joseph P. Loddo,
Associate Administrator for Business Development.

[FR Doc. E9-29588 Filed 12-11-09; 8:45 am]

BILLING CODE 8025-01-P